NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before November 9, 2006. (Note that the new time period for requesting copies has changed from 45 to 30 days after publication.) Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means: Mail: NARA (NWML), 8601 Adelphi Road, College Park, MD 20740-6001. E-mail: requestschedule@nara.gov. Fax: 301-837-3698.

Requesters must cite the control number, which appears in parentheses after the name of the agency which submitted the schedule, and must provide a mailing address. Those who desire appraisal reports should so indicate in their request.

FOR FURTHER INFORMATION CONTACT: Laurence Brewer, Director, Life Cycle Management Division (NWML), National Archives and Records Administration, 8601 Adelphi Road, College Park, MD 20740-6001. Telephone: 301-837-1539. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending (Note that the new time period for requesting copies has changed from 45 to 30 days after publication):

1. Department of the Army, Agency-wide (N1-AU-06-11, 1 item, 1 temporary item). Records relating to the counseling of military personnel on the care of dependent family members while fulfilling military assignments. This schedule authorizes the agency to apply the proposed disposition instructions to any recordkeeping medium.

2. Department of Defense, Defense Intelligence Agency (N1-373-06-1, 2 items, 1 temporary item). Records of the Office of the Chief of Staff, consisting of agreements with external organizations detailing temporary assignments of agency personnel. Proposed for permanent retention are recordkeeping copies of agreements covering substantive provisions of services, products, or personnel to other organizations.

3. Department of Defense, National Reconnaissance Office (N1-525-06-4, 5 items, 3 temporary items). Records of the Office of the Inspector General including routine investigative case files that lack historical value, audit files, and copies of inspections, investigations, and audits held by other offices. Proposed for permanent retention are recordkeeping copies of general operating files and significant investigative and inspection files. This schedule authorizes the agency to apply the proposed disposition instructions to any recordkeeping medium.

4. Department of Defense, National Security Agency (N1-457-06-1, 7 items, 3 temporary items). Raw data, procedural records, and collaboration and exchange records relating to signals intelligence. Proposed for permanent retention are recordkeeping copies of products, operational analysis, technical reports, and technical support documents. This schedule authorizes the agency to apply the proposed disposition instructions to any recordkeeping medium.

5. Department of Defense, National Security Agency (N1-457-06-2, 9 items, 3 temporary items). Test and evaluation records and data that is duplicate, routine, or patent-related. Proposed for permanent retention are recordkeeping copies of research project case files and reports, data relating to accomplishments of continuing value, and various cryptologic mathematics files. This schedule authorizes the agency to apply the proposed disposition instructions to any recordkeeping medium.

6. Department of Health and Human Services, Administration on Aging (N1-439-06-1, 3 items, 2 temporary items). Records of the Office of the Executive Secretariat including comments on statements of departmental policy relating to aging issues, grants-related records, responses to audits, draft documents submitted to other offices or agencies, and duplicate or working copies of the Assistant Secretary's speeches, policy interpretations of the Older Americans Act, and other records signed by the Assistant Secretary. Proposed for permanent retention are recordkeeping copies of the Assistant Secretary's speeches, policy interpretations of the Older Americans Act, and other documents of a substantive nature signed by the Assistant Secretary.

7. Department of Health and Human Services, Administration on Aging (N1-439-06-2, 8 items, 6 temporary items). Files maintained by the Assistant Secretary such as telephone logs, invitations and scheduling requests, reading files, and duplicate or working copies of meeting and activities files. Proposed for permanent retention are recordkeeping copies of meeting and activities files, and handwritten notes relating to agency policy.

8. Department of Homeland Security, U.S. Coast Guard (N1-26-06-6, 3 items, 3 temporary items). Records relating to the content of a Web portal which is used to verify personnel data relating to maritime workers, identify persons in need of assistance during disasters, and regulate portal use.

9. Department of the Interior, Minerals Management Service (N1-473-06-3, 2 items, 2 temporary items). Records created by the Offshore Minerals Management Program including the official record set and reference copies of files that document the operational transactions involved in well drilling. This schedule authorizes the agency to apply the proposed disposition instructions to any recordkeeping medium.

10. Department of Justice, Federal Bureau of Investigation (N1-65-06-6, 3 items, 3 temporary items). Inputs, master files, and system documentation associated with electronic information systems used by the agency laboratory to analyze evidence. For all items on this schedule except the master files, the agency is authorized to apply the proposed disposition instructions to any recordkeeping medium.

11. Department of Labor, Employment and Training Administration (N1-369-06-1, 14 items, 10 temporary items). Records maintained by the Office of Apprenticeship including program case files, occupation case files, and comments on regulatory proposals appearing in the Federal Register relating to Federal apprenticeship programs. Proposed for permanent retention are recordkeeping copies of National Guideline Standards case files, and bulletins and circulars.

12. Department of the Treasury, Office of the Comptroller of the Currency (N1-101-06-1, 3 items, 3 temporary items). Master files and documentation associated with an electronic information system used to maintain and track customer complaints and inquiries relating to national banks. Also included is an electronic database containing recordings of phone conversations with customers. For all items on this schedule except the master files, the agency is authorized to apply the proposed disposition instructions to any recordkeeping medium.

13. National Archives and Records Administration, Government-wide (N1-GRS-06-1, 8 items, 8 temporary items). Change to General Records Schedule 1, Civilian Personnel Records, to add inputs, master files, outputs, and documentation associated with an electronic information system for maintaining civilian personnel records.

14. National Endowment for the Arts, Office of Inspector General (N1-288-06-1, 7 items, 6 temporary items). Audit records that include audit and other review case files, records relating to the review of legislation, regulations, and indirect cost rate proposals, and guidelines for grantee reporting requirements. Proposed for permanent retention are recordkeeping copies of strategic planning activity files and oversight reporting.

Dated: October 3, 2006.
Michael J. Kurtz,
Assistant Archivist for Records Services—Washington, DC.

[FR Doc. E6-16642 Filed 10-6-06; 8:45 am]

BILLING CODE 7515-01-P